DEPARTMENT OF JUSTICE

Notice of Lodging of Consent Decree Under the Clean Water Act and Resource Conservation and Recovery Act

Notice is hereby given that on November 27, 2000, a proposed Consent Decree in United States v. Turtle Mountain Manufacturing Company (D. North Dakota), Civil Action No. A4-00-139, was lodged with the United States District Court for the District of North Dakota.

This Consent Decree represents a settlement of claims brought against defendant (“Settling Defendant”) in the above-referenced action brought under Section 309 of the Clean Water Act, 33 U.S.C. 1319, for failure to: (1) Comply with general pretreatment requirements for reporting noncompliance and other information, (2) comply with specific discharge limits under the Metal Finishing Point Source Category pretreatment standards, (3) sample and submit storm water discharge monitoring reports as required under its NPDES general permit, and (4) comply with a Section 308 information request requiring monthly monitoring and reporting of process wastewater discharges. Additionally, the proposed Consent Decree represents a settlement of claims against Settling Defendant under Section 3008 of the Resource Conservation and Recovery Act, 42 U.S.C. 6928, for failure to comply with numerous regulations pertaining to storage and management of hazardous waste and used oil applicable to generators of such items.

Under the proposed settlement, the Settling Defendant would be required to pay a civil penalty of $100,000 for violations of the Clean Water Act, and Resource Conservation and Recovery Act. The proposed settlement also requires Settling Defendant to immediately comply with all applicable general pretreatment provisions, metal finishing point source pretreatment requirements and its storm water NPDES general permit for its metal parts manufacturing facility near Belcourt, North Dakota. Additionally, the proposed settlement further requires Settling Defendant to immediately comply with all applicable requirements for generators of hazardous waste and used oil from its manufacturing facility.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Turtle Mountain Manufacturing Company (D. North Dakota), D.J. Ref. 90-7-1-06492.

The Consent Decree may be examined at the Office of the United States Attorney, 655 1st Avenue, North, Suite 250, Fargo, North Dakota 58102, and at U.S. EPA Region 8, 999 18th Street, Suite 500, Denver, Colorado 80202-2466. A copy of the Consent Decree may be also be obtained by mail from the Consent Decree Library, P.O. Box 7611, U.S. Department of Justice, Washington, DC 20044-7611. In requesting a copy, please enclose a check in the amount of $9.75 (25 cents per page reproduction cost) payable to the Consent Decree Library.

Bruce Gelber,
Chief, Environmental Enforcement Section, Environment and Natural Resources Division.

[FR Doc. 00-31261 Filed 12-7-00; 8:45 am]

BILLING CODE 4410-15-M